DEPARTMENT OF THE INTERIOR

National Park Service

[2253-665]

Notice of Inventory Completion: Paul H. Karshner Memorial Museum, Puyallup, WA

AGENCY: National Park Service, Interior.

ACTION: Notice.

SUMMARY: The Paul H. Karshner Memorial Museum has completed an inventory of human remains in consultation with the appropriate Indian tribes, and has determined that there is no cultural affiliation between the remains and any present-day Indian tribe. Representatives of any Indian tribe that believes itself to be culturally affiliated with the human remains may contact the Paul H. Karshner Memorial Museum, Puyallup, WA. Disposition of the human remains to the Indian tribes stated below may occur if no additional requestors come forward.

DATES: Representatives of any Indian tribe that believes it has a cultural affiliation with the human remains should contact the Paul H. Karshner Memorial Museum at the address below by December 29, 2011.

ADDRESSES: Brian Fox, Director of Instructional Leadership, Puyallup School District, Paul H. Karshner Memorial Museum, 302 2nd Street SE., Puyallup, WA, 98372, telephone (253) 841-8646.

SUPPLEMENTARY INFORMATION: Notice is here given in accordance with the Native American Graves Protection and Repatriation Act (NAGPRA), 25 U.S.C. 3003, of the completion of an inventory of human remains in the possession of the Paul H. Karshner Memorial Museum (Karshner Museum), Puyallup, WA. The human remains are reasonably believed to have been removed from either Washington State, Southeast Alaska, or Western Oregon.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Karshner Museum professional staff in consultation with representatives of the Coeur D'Alene Tribe of the Coeur D'Alene Reservation, Idaho; Confederated Tribes and Bands of the Yakama Nation, Washington; Confederated Tribes of the Chehalis Reservation, Washington; Confederated Tribes of the Colville Reservation, Washington; Confederated Tribes of the Coos, Lower Umpqua and Siuslaw Indians of Oregon; Confederated Tribes of the Grand Ronde Community of Oregon; Confederated Tribes of the Siletz Indians of Oregon; Confederated Tribes of the Umatilla Reservation, Oregon; Confederated Tribes of the Warm Springs Reservation of Oregon; Coquille Tribe of Oregon; Cow Creek Band of Umpqua Indians of Oregon; Cowlitz Indian Tribe, Washington; Hoh Indian Tribe of the Hoh Indian Reservation, Washington; Jamestown S'Klallam Tribe of Washington; Kalispel Indian Community of the Kalispel Reservation, Washington; Klamath Tribes, Oregon; Lower Elwha Tribal Community of the Lower Elwha Reservation, Washington; Lummi Tribe of the Lummi Reservation, Washington; Makah Indian Tribe of the Makah Indian Reservation, Washington; Muckleshoot Indian Tribe of the Muckleshoot Reservation, Washington; Nez Perce Tribe of Idaho; Nisqually Indian Tribe of the Nisqually Reservation, Washington; Nooksack Indian Tribe of Washington; Port Gamble Indian Community of the Port Gamble Reservation, Washington; Puyallup Tribe of the Puyallup Reservation, Washington; Quileute Tribe of the Quileute Reservation, Washington; Quinault Tribe of the Quinault Reservation, Washington; Samish Indian Tribe, Washington; Sauk-Suiattle Indian Tribe of Washington; Shoalwater Bay Tribe of the Shoalwater Bay Indian Reservation, Washington; Skokomish Indian Tribe of the Skokomish Reservation, Washington; Snoqualmie Tribe, Washington; Spokane Tribe of the Spokane Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and the Upper Skagit Indian Tribe of Washington (hereinafter referred to as “The Tribes”). The Karshner Museum also consulted with the following non-Federally recognized Indian groups: The Aleut Corporation; Chinook Tribe; Duwamish Tribe; Kikiallus Nation; Marietta Band of Nooksack Indians; Sealaska Corporation; Snohomish Tribe; Snoqualmoo Tribe; Steilacoom Indian Tribe and the Wanapum Band (hereinafter referred to as “The Indian Groups”).

History and Description of the Remains

Prior to 1924, human remains representing a minimum of three individuals were removed from an unknown location in either Washington State, Southeast Alaska, or Western Oregon. The remains were collected by the Karshner Museum's founder, Dr. Warner Karshner, and were apparently used as medical specimens. Dr. Karshner transferred the remains at an unknown date to his protégée Dr. Thomas H. Clark. Dr. Clark donated the remains to the Karshner Museum in 1982 (accession #1982.10; catalog number 1982.10.17-111). No known individuals were identified. No associated funerary objects are present.

The remains were identified at the Karshner Museum in December 2007. There is no provenience information for the remains; however, research by the Karshner Museum has resulted in a reasonable determination that the remains were collected from either Washington State; Southeast Alaska; or Western Oregon. Dr. Karshner lived primarily in Puyallup, WA from 1905-1951 but was known to travel widely and collect items during his trips. Although he traveled throughout the United States and internationally, museum records indicate he only removed NAGPRA items from Washington State, Southeast Alaska, and Western Oregon.

The Karshner Museum received a formal joint claim for these remains from the Confederated Tribes of the Grand Ronde Community of Oregon; Puyallup Tribe of the Puyallup Reservation, Washington; and Samish Indian Tribe, Washington.

Determinations Made by the Paul H. Karshner Memorial Museum, Puyallup, WA

Officials of the Karshner Museum have determined that:

• Based on morphological characteristics identified during review by a physical anthropologist the human remains are Native American.

• Pursuant to 25 U.S.C. 3001(2), a relationship of shared group identity cannot be reasonably traced between the Native American human remains and any present-day Indian tribe.

• Multiple lines of evidence, including treaties, Acts of Congress, and Executive Orders, indicate that the land from which the Native American human remains were removed is the aboriginal land of the Confederated Tribes of the Grand Ronde Community of Oregon; Puyallup Tribe of the Puyallup Reservation, Washington; and the Samish Indian Tribe, Washington.

• Pursuant to 25 U.S.C. 3001(9), the human remains described in this notice represent the physical remains of three individuals of Native American ancestry.

• Pursuant to 43 CFR 10.11(c)(1), the disposition of the human remains is to the Confederated Tribes of the Grand Ronde Community of Oregon; Puyallup Tribe of the Puyallup Reservation, Washington; and the Samish Indian Tribe, Washington.

Additional Requestors and Disposition

Representatives of any Indian tribe that believes itself to be culturally affiliated with the human remains or any other Indian tribe that believes it satisfies the criteria in 43 CFR 10.11(c)(1) should contact Brian Fox, Director of Instructional Leadership, Paul H. Karshner Memorial Museum, Puyallup, WA, telephone (253) 841-8646, before December 29, 2011. Disposition of the human remains Confederated Tribes of the Grand Ronde Community of Oregon; Puyallup Tribe of the Puyallup Reservation, Washington; and Samish Indian Tribe, Washington may proceed after that date if no additional requestors come forward.

The Karshner Museum is responsible for notifying The Tribes and the Indian Groups that this notice has been published.

Dated: November 22, 2011.
Sherry Hutt,
Manager, National NAGPRA Program.

[FR Doc. 2011-30615 Filed 11-28-11; 8:45 am]

BILLING CODE 4312-50-P